SMALL BUSINESS ADMINISTRATION

Public Federal Regulatory Enforcement Fairness Hearing; Region VI Regulatory Fairness Board

The Small Business Administration Region VI Regulatory Fairness Board and the SBA Office of the National Ombudsman will hold a Public Hearing on Monday, January 31, 2005 at 8:30 a.m. at Texas Tech University, Animal and Food Sciences Building, Room 101, located on the Southwest corner of Indiana Blvd. and Brownfield Highway, Lubbock, TX 79401, phone (806) 742-2513, to receive comments and testimony from small business owners, small government entities, and small non-profit organizations concerning regulatory enforcement and compliance actions taken by federal agencies.

Anyone wishing to attend or to make a presentation must contact Scotty Arnold in writing or by fax, in order to be put on the agenda. Scotty Arnold, Economic Development Specialist, SBA Lubbock District Office, Mahon Federal Building, 1205 Texas Ave., Room 408, Lubbock, TX 79401, phone (806) 472-7462 Ext. 102, fax (806) 472-7487, e-mail: Scotty.arnold@sba.gov.

For more information, see our Web site at http://www.sba.gov/ombudsman.

Dated: January 11, 2005.
Peter Sorum,
Senior Advisor, Office of the National Ombudsman.

[FR Doc. 05-1096 Filed 1-19-05; 8:45 am]

BILLING CODE 8025-01-P